DEPARTMENT OF AGRICULTURE

Submission for OMB Review; Comment Request

March 23, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 27, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Commercial Transportation of Equines to Slaughter.

OMB Control Number: 0579-0160.

Summary of Collection: Sections 901-905 of the Federal Agriculture Improvement and Reform Act of 1996 (7 U.S.C. 1901), authorizes the Secretary of Agriculture to issue guidelines for regulating the commercial transportation of horses to slaughter by person regularly engaged in that activity within the United States. To fulfill this responsibility, the Animal and Plant Health Inspection Service (APHIS) established regulations in title 9, part 88 of the Code of Federal Regulations. The minimum standards cover among other things the food, water, and rest provided to these horses while they are in transit; and to review other related issues that may be appropriate to ensuring that these animals are treated humanely. Implementing these regulations entails the use of information collection activities such as providing business information, completing an owner/shipper certificate and continuation sheet, and maintaining records of the owner/shipper certificate and continuation sheet.

Need and Use of the Information: APHIS will collect the following information: (1) Shippers name and address and the owner's name and address; (2) description of the transporting vehicle, including the license plate number; (3) a description of the horse's physical characteristics, including its sex, coloring, distinguishing marks, permanent brands, electronic means of identification, or other characteristics that can be use to accurately identify the horse; (4) the number of the USDA backtags that has been applied to the horse; (5) a statement of the animal's fitness to travel, which must indicate that the horse is able to bear weight on all four limbs, is able to walk unassisted, is not blind in both eyes, is older than 6 months of age, and is not likely to give birth during the trip; (6) a description of anything unusual with regard to the physical condition of the horse, such as a wound or blindness in one eye, and any special handling needs; (7) the date, time, and place the horse was loaded on the conveyance; and (8) a statement that the horse was provided access to food, water, and rest prior to transport. This information is helpful in those instances in which APHIS must conduct a trace back investigation of any possibly salleged violation of the regulations.

Description of Respondents: Business or other for-profit and Federal Government.

Number of Respondents: 302.

Frequency of Responses: Recordkeeping; Reporting: On occasion.

Total Burden Hours: 3308.

Animal and Plant Health Inspection Service

Title: Highly Pathogenic Avian Influenza, All Subtypes, and Newcastle Disease; Additional Restrictions.

OMB Control Number: 0579-0245.

Summary of Collection: The Animal Health Protection Act (AHPA), 7 U.S.C. 8301, is the primary Federal law governing the protection of animal health. The law gives the Secretary of Agriculture broad authority to detect, control, or eradicate pests or diseases of livestock or poultry. The agency charged with carrying out this disease prevention mission is the Animal and Plant Health Inspection Service (APHIS), through its Veterinary Services (VS) Program. Highly pathogenic avian influenza (HPAI) and Newcastle Disease are extremely infectious and often fatal disease affecting all types of birds and poultry.

Need and Use of the Information: To protect the United States against an incursion of HPAI and Newcastle Disease, APHIS requires the use of several information collection activities, including an USDA-APHIS-VS Application For Permit To Import or Transport Controlled Materials or Organisms or Vectors (VS Form 16-3); a United States Veterinary Permit for Importation and Transportation of Controlled Materials and Organisms and Vectors (VS Form 16-6A); an Application for Approval or Report of Inspection Establishment Handling Restricted Animal Byproducts or Controlled Materials (VS Form 16-25); USDA-APHIS-VS Agreement for Handling Restricted Imports of Animal By-Products and Controlled Materials (VS Form 16-26); USDA-APHIS-VS Report of Entry, Shipment of Restricted Imported Animal Products and Animal By-Products, and Other Material (VS Form 16-78); USDA-APHIS-VS Application for Import or in Transit Permit (Animals, Animal Semen, Animal Embryos, Birds, Poultry, and Hatching Eggs) (VS Form 17-129); USDA-APHIS Agreement of Pet Bird Owner (VS Form 17-8); application of seals and agreements; notarized declaration or affirmation; notification of signs of disease in a recently imported bird; cooperative service agreements, and recordkeeping by processing establishments. APHIS will collect information to ensure that U.S. birds and poultry undergo appropriate examinations before entering the United States. Without the information, it would be impossible for APHIS to establish an effective line of defense against an introduction of HPAI and Newcastle Disease.

Description of Respondents: Individuals or households; Business or other for-profit; Not-for-profit institutions; Federal Government.

Number of Respondents: 970.

Frequency of Responses: Reporting and Recordkeeping: On occasion.

Total Burden Hours: 2,046.

Animal Plant and Health Inspection Service

Title: Importation of Emerald Ash Borer Host Material from Canada.

OMB Control Number: 0579-0319.

Summary of Collection: The United States Department of Agriculture, Animal and Plant Health Inspection Service (APHIS), is responsible for preventing plant diseases or insect pests from entering the United States, preventing the spread of pests and noxious weeds not widely distributed in the United States, and eradicating those imported pests when eradication is feasible. Under the Plant Protection Act (7 U.S.C. 7701—et. seq), the Secretary of Agriculture is authorized to prohibit or restrict the importation, entry, or movement of plants and plant pests to prevent the introduction of plant pests into the United States or their dissemination within the United States. The regulations in 7 CFR part 319, “Foreign Quarantine Notices,” prohibit or restrict the importation of certain plants and plant products to prevent the introduction or dissemination of plant pests and noxious weeds into the United States. The Foreign Quarantine Notices regulations prohibit or restrict the importation of certain articles from Canada that present the risk of being infested with Emerald Ash Borer (EAB). EAB is a destructive wood-boring insect that attacks ash trees (Fraxinus spp., including green ash, white ash, and several horticultural varieties of ash).

Need and Use of the Information: APHIS will collect information using phytosanitary certificate, permit application, and certificates of inspection. If APHIS did not collect this information, EAB could damage ash trees and cause economic losses to nursery stock and the nursery industry.

Description of Respondents: Business or other-for-profit; Federal Government.

Number of Respondents: 5.

Frequency of Responses: Reporting: On occasion.

Total Burden Hours: 42.

Ruth Brown,
Departmental Information Collection Clearance Officer.

[FR Doc. 2017-06076 Filed 3-27-17; 8:45 am]

BILLING CODE 3410-34-P